DEPARTMENT OF THE INTERIOR

Bureau of Reclamation

Franks Tract, Sacramento-San Joaquin Bay-Delta, CA

AGENCY: Bureau of Reclamation, Interior.

ACTION: Notice of intent to prepare an environmental impact statement/environmental impact report (EIS/EIR) and notice of public scoping meetings.

SUMMARY: Pursuant to the National Environmental Policy Act (NEPA) and the California Environmental Quality Act (CEQA), the Bureau of Reclamation (Reclamation) and the California Department of Water Resources (DWR) intend to prepare an EIS/EIR for the Franks Tract Project. Reclamation is the lead Federal agency under NEPA and DWR is the lead State agency under CEQA for preparation of the EIS/EIR.

The Franks Tract Project is designed to address water quality and fish protection issues in the central and southern Sacramento-San Joaquin River Delta (Delta). The project would consist of the construction of barriers around Franks Tract to prevent salinity intrusion and the movement of sensitive fish species into the central and southern Delta.

DATES: Written comments on the scope of the EIS/EIR will be accepted on or before November 21, 2008.

A series of public scoping meetings will be held to solicit public input on alternatives, concerns, and issues to be addressed in the EIS/EIR. The meeting dates are as follows:

• Monday, October 6, 2008, 10 a.m. to 12 p.m., Sacramento, CA.

• Tuesday, October 7, 2008, 6 p.m. to 8:30 p.m., Rio Vista, CA.

• Wednesday, October 8, 2008, 6 p.m. to 8:30 p.m., Antioch, CA.

• Thursday, October 9, 2008, 6 p.m. to 8:30 p.m., Stockton, CA.

ADDRESSES: The public scoping meeting locations are:

• Sacramento at the Federal Building, Cafeteria Conference Rooms C-1001 and C-1002, 2800 Cottage Way.

• Rio Vista at the Memorial Building, 610 St. Francis Way.

• Antioch at the Contra Costa Public Library, 501 W. 18th Street.

• Stockton at the Memorial Civic Auditorium, North Hall, 525 North Center Street.

Written comments on the scope of the EIS/EIR should be sent to Ms. Lynnette Wirth, Bureau of Reclamation, 2800 Cottage Way, Public Affairs, Sacramento, CA 95825, e-mailed to lwirth@mp.usbr.gov, or faxed to 916-978-5114.

FOR FURTHER INFORMATION CONTACT: Ms. Sharon McHale, Reclamation Project Manager, at 916-978-5086 (TDD 916-978-5608), or via e-mail at smchale@mp.usbr.gov; or Mr. Ajay Goyal, DWR Project Manager, at 916-651-9823, or via e-mail at agoyal@water.ca.gov.

SUPPLEMENTARY INFORMATION: The project location would be in the vicinity of Franks Tract in the Delta. Franks Tract is connected tidally to the San Joaquin River via False River. During low flow conditions, high salinity water enters Franks Tract on flood tide while fresher water flows back into False River during ebb tide. The higher salinity water mixes within Franks Tract and is drawn into Old River through levee breaches on the east side of Franks Tract. These conditions impact salinity conditions in the adjacent Delta channels and the central and south Delta.

Background

The CALFED Bay-Delta Authorization Act of 2004 (Pub. L. 108-361) authorized the Secretary of the Interior to conduct a feasibility study and actions at Franks Tract to improve water quality in the Delta. As part of the feasibility study, an EIS/EIR is required to address environmental effects.

Objectives

The objectives of the Franks Tract Project are:

• To improve the quality of water in the central and south Delta being pumped at the Central Valley Project, C.W. “Bill” Jones Pumping Plant and the State Water Project, Harvey O. Banks Pumping Plant.

• To improve fisheries conditions throughout the Delta.

Alternatives

The following alternatives are currently under consideration:

• Operable Gates on False River: This alternative involves installation of operable gates on the West False River near the confluence with the San Joaquin River west of Franks Tract. The barrier would provide a physical obstruction to salt intrusion entering Franks Tract via the western end of False River.

• Operable Gate on Three Mile Slough: This alternative involves installation of an operable gate in Three Mile Slough. The barrier would be closed on ebb tide to prevent water from the San Joaquin River from entering the Sacramento River. This action serves to keep flow in the San Joaquin River and increases the net westerly flow past Jersey Point.

Special Assistance for Public Scoping Meetings

If special assistance is required at the public hearings, please contact Ms. Lynnette Wirth at 916-978-5100, TDD 916-978-5608, or via e-mail at lwirth@mp.usbr.gov. Please notify Ms. Wirth as far in advance as possible to enable Reclamation to secure the needed services. If a request cannot be honored, the requestor will be notified. A telephone device for the hearing impaired (TDD) is available at 916-978-5608.

Public Disclosure

Before including your name, address, phone number, e-mail address, or other personal identifying information in your comment, you should be aware that your entire comment—including your personal identifying information—may be made publicly available at any time. While you can ask us in your comment to withhold your personal identifying information from public review, we cannot guarantee that we will be able to do so.

Dated: August 13, 2008.
Susan M. Fry,
Regional Environmental Officer, Mid-Pacific Region.

[FR Doc. E8-22045 Filed 9-19-08; 8:45 am]

BILLING CODE 4310-MN-P